DEPARTMENT OF DEFENSE

Department of the Army, U.S. Army Corps of Engineers

Public Scoping Meeting and Intent To Prepare an Environmental Impact Statement for Proposed Pascagoula River Drought Resiliency Project, George County and Jackson County, Mississippi

AGENCY: Department of the Army, U.S. Army Corps of Engineers, DoD.

ACTION: Notice of intent.

SUMMARY: The U.S. Army Corps of Engineers, Mobile District (USACE) has received an application (File Number SAM-2014-00653-MBM) for a Department of Army Permit from the Pat Harrison Waterway District and George County Board of Supervisors to construct two water supply lakes: A 1,715-acre upper lake on Little Cedar Creek and a 1,153-acre lower lake on Big Cedar Creek, in George and Jackson Counties, Mississippi. The applicant believes that the proposed water supply lakes are needed to supply water to the Pascagoula River during future extreme droughts resulting from the effects of climate change and to maintain flow regimes necessary to meet critical environmental, ecological, and economic needs. The applicant estimates that the proposed project would impact approximately 1,201.7 acres of wetlands, 41.6 miles of stream channels, and 24.8 acres of open water. Based on the potential impacts, both individually and cumulatively, the USACE intends to prepare an Environmental Impact Statement (EIS) in compliance with the National Environmental Policy Act to render a final decision on the permit application. The purpose of this Notice of Intent is to inform the public, agencies, and organizations of the time and location of the public scoping meeting and invite public participation in the Environmental Impact Statement (EIS) process.

DATES: The scoping period will commence with the publication of this notice. This scoping period for providing comments on relevant issues and factors that should be considered for study in the EIS will end on February 6, 2017.

ADDRESSES: You may submit written comments by mail to the U.S. Army Corps of Engineers, ATTN: Regulatory Division, Post Office Box 2288, Mobile, AL 36628. You may submit written comments by email to michael.b.moxey@usace.army.mil or submit online at http://www.georgecountylakesEIS.com. Documents pertinent to the proposed project may be examined at the Web site located at http://www.georgecountylakesEIS.com.

FOR FURTHER INFORMATION CONTACT: Mr. Michael B. Moxey, Special Projects Manager, U.S. Army Corps of Engineers, at (251) 694-3771.

SUPPLEMENTARY INFORMATION: The USACE Mobile District intends to prepare an EIS on the proposed Pascagoula River Drought Resiliency Project. The Pat Harrison Waterway District and the George County Board of Supervisors propose this project and are co-applicants for the Department of the Army Permit (Application Number SAM-2014-00653-MBM). The primary Federal involvement associated with the proposed action is the discharge of dredge or fill material into waters of the United States, including jurisdictional wetlands and streams pursuant to Section 404 of the Clean Water Act (33 U.S.C. 1344).

1. Background: The applicant proposes to construct two water supply lakes located in south George County and north Jackson County, Mississippi as a drought resiliency project. The proposed upper dam is located on Little Cedar Creek, and the proposed lower dam is located on Big Cedar Creek; both tributaries to the Pascagoula River. The applicant's stated purpose for the two water storage lakes is to provide secondary water sources to sustain the Pascagoula River at a target minimum flow of 917 cubic feet per second (CFS) as measured at the U.S. Geological Survey (USGS) gage station 02479000 on the Pascagoula River at Merrill, Mississippi during extreme prolonged drought conditions through 2060. The applicant believes that the effects of climate change will increase drought severity, frequency and duration in the future. Severe prolonged droughts occurred in 1936 and in 2000. In 2007 the Pascagoula River fell below 917 CFS in mid-November, while in 2011 the Pascagoula River approached 917 CFS in mid-June and fell below 917 CFS for a brief time in early September. Water from the Okatibbee Reservoir, located in Lauderdale County, Mississippi, has been used to augment stream flows during low flow events prior to 2000. The applicant proposes to release water from the two connected lakes when insufficient flow occurs, to sustain the target 917 cubic feet per second (CFS) minimum flows in the Pascagoula River during prolonged severe droughts. The applicant would also strive to sustain recreational uses on both lakes to the greatest extent possible.

2. Scoping and Public Involvement Process: The purpose of the Environmental Impact Statement (EIS) scoping process is to identify relevant issues and factors that will affect the scope of the environmental analysis and alternatives in the EIS. All previous comments received by from Federal and state agencies, professional environmental organizations, and the public are being evaluated in this scoping procedure. Based on comments already received in response to the September 4, 2015 public notice, some areas of potential significant impact that may need to be studied in detail during the EIS process could include, but are not limited to the following:

(a) Proposed water storage and availability;

(b) Stream hydrologic and hydraulic regimes;

(c) Secondary and cumulative Impacts;

(d) Alternatives to the proposed action;

(e) Threatened and Endangered Species;

(f) Fish, wildlife, and critical habitats;

(g) Cultural resources/historic properties;

(h) Water quality;

(i) Impacts to wetlands and streams;

(j) Mitigation.

3. Purpose and Need: The applicant's stated purpose for the two connected lakes is to provide sufficient surface water storage to (1) restore the sub-surface water table levels and to (2) allow the stored water to be released as needed during extreme prolonged droughts to maintain the Pascagoula River flow above the established minimum of 917 CFS as measured at the USGS gage station 02479000 located on the Pascagoula River at Merrill, Mississippi through 2060, in light of projected more frequent, severe and longer droughts in the basin due to the effects of climate change. The applicant stated that maintaining the minimum 7Q10 flow (the lowest 7-day average flow that occurs on average once every 10 years) of 917 CFS is necessary for the river to meet critical environmental, ecological, and economic needs. In addition to its primary drought resiliency purpose, the Pat Harrison Waterway District proposes to operate and maintain the lakes for public recreational use.

4. Alternatives: An evaluation of alternatives to the applicant's preferred alternative initially being considered includes a No Action alternative, alternatives that would avoid, minimize and compensate for impacts to the aquatic environment, alternatives utilizing other best management practices, and other reasonable alternatives developed through the project scoping process that may also meet the identified purpose and need. Reasonable alternatives could include, but are not limited to, alternate site locations for the lake, alternate site layouts that may have less impact on the environment, alternate sources of water to supplement flow in the Pascagoula River, or alternate practices to mitigate low flow events in the Pascagoula River. The scoping and evaluation phase of the EIS process will help in the determination of reasonable alternatives to be studied in details for the project.

5. Additional Resources to be Evaluated: Resource areas to be evaluated that have been identified to date include the following: Potential direct effects to waters of the United States including aquatic species, environmental justice, socioeconomic environment, recreation and recreational resources, aesthetics, public health and safety, navigation, erosion and accretion, cumulative impacts, public benefit and needs of the people along with potential effects on the human environment.

6. Public Scoping Meeting: A public scoping meeting will be held on January 24, 2017, from 5:00-8:00 p.m. at the George County Senior Citizens Building, 7102 Highway 198 East, Lucedale, MS 39452. The scoping meeting will begin with an informal open house from 5:00 p.m. to 6:30 p.m. to allow review of project information presented as board displays and other materials. At 6:30 p.m., the U.S. Army Corps of Engineers (USACE) will provide an informal presentation on the proposed project, and discuss the Environmental Impact Statement (EIS) process. The USACE is soliciting comments from all interested parties on issues and factors that should be considered for the scope and content of the EIS. The USACE will announce the public scoping meeting through local news media and the Web page at http://www.georgecountylakesEIS.com at least 15 days prior to the meeting. Comments are encouraged from the public as well as Federal, state, and local agencies and officials, Indian tribes, and other interested parties so that the scope of the EIS may be properly identified.

7. Coordination: The proposed action is being coordinated with a number of Federal and State agencies, including the U.S. Environmental Protection Agency, U.S. Fish and Wildlife Service, Mississippi Department of Environmental Quality, and Mississippi Department of Marine Resources. These agencies were requested by the USACE to be cooperating agencies for the EIS per Council on Environmental Quality regulations at 40 CFR 1501.6. Collaboration with other agencies, including state resource protection agencies, is anticipated during the EIS process.

8. Availability of the Draft EIS: The U.S. Army Corps of Engineers will advertise the availability of a Draft Environmental Impact Statement when it becomes available for the public review.

Brenda S. Bowen,
Army Federal Register Liaison Officer.

[FR Doc. 2016-30988 Filed 12-22-16; 8:45 am]

BILLING CODE 3720-58-P